DEPARTMENT OF TRANSPORTATION

Federal Aviation Administration

14 CFR Part 39

[Docket No. FAA-2019-0113; Product Identifier 2017-SW-140-AD]

RIN 2120-AA64

Airworthiness Directives; Airbus Helicopters Deutschland GmbH Helicopters

AGENCY: Federal Aviation Administration (FAA), DOT.

ACTION: Notice of proposed rulemaking (NPRM).

SUMMARY: The FAA proposes to supersede Airworthiness Directive (AD) 2016-11-21 for Airbus Helicopters Deutschland GmbH (Airbus Helicopters) Model EC135P1, EC135P2, EC135P2+, EC135T1, EC135T2, and EC135T2+ helicopters. AD 2016-11-21 requires revising the life limit of certain parts and removing each part that has reached its life limit. Since the FAA issued AD 2016-11-21, new models were certified. This proposed AD would expand the applicability to include Model EC135P3 and EC135T3 helicopters. This proposed AD would also revise the life limits for certain parts and propose to remove each part that has reached or exceeded its life limit. The actions of this proposed AD are intended to address an unsafe condition on these products.

DATES: The FAA must receive comments on this proposed AD by April 22, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2019-0113; or in person at Docket Operations between 9 a.m. and 5 p.m., Monday through Friday, except Federal holidays. The AD docket contains this proposed AD, the European Aviation Safety Agency (now European Union Aviation Safety Agency) (EASA) AD, any comments received and other information. The street address for Docket Operations is listed above. Comments will be available in the AD docket shortly after receipt.

For service information identified in this proposed rule, contact Airbus Helicopters, 2701 N. Forum Drive, Grand Prairie, TX 75052; telephone 972-641-0000 or 800-232-0323; fax 972-641-3775; or at https://www.airbus.com/helicopters/services/technical-support.html. You may view this referenced service information at the FAA, Office of the Regional Counsel, Southwest Region, 10101 Hillwood Pkwy., Room 6N-321, Fort Worth, TX 76177.

FOR FURTHER INFORMATION CONTACT: Matt Fuller, AD Program Manager, Operational Safety Branch, Airworthiness Products Section, General Aviation & Rotorcraft Unit, FAA, 10101 Hillwood Pkwy., Fort Worth, TX 76177; telephone 817-222-5110; email matthew.fuller@faa.gov.

SUPPLEMENTARY INFORMATION:

Comments Invited

The FAA invites you to send any written relevant data, views, or arguments about this proposal. Send your comments to an address listed under ADDRESSES. Include “Docket No. FAA-2019-0113; Product Identifier 2017-SW-140-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regualtions.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Matt Fuller, AD Program Manager, Operational Safety Branch, Airworthiness Products Section, General Aviation & Rotorcraft Unit, 10101 Hillwood Pkwy., Fort Worth, TX 76177; telephone 817-222-5110; email Matthew.Fuller@faa.gov. Any commentary that the FAA receives which is not specifically designated as CBI will be placed in the public docket for this rulemaking.

Discussion

The FAA issued AD 2016-11-21, Amendment 39-18548 (81 FR 36137, June 6, 2016) (AD 2016-11-21) for Airbus Helicopters Model EC135P1, EC135P2, EC135P2+, EC135T1, EC135T2, and EC135T2+ helicopters. AD 2016-11-21 requires reducing the life limit of certain parts and removing each part that has reached its life limit. AD 2016-11-21 was prompted by Airbus Helicopters revising the airworthiness limitations for the Model EC135 and EC635 helicopters' type design as published in the Master Servicing Manual (MSM) EC135 Chapter 04—ALS documents. Revision 14 of the MSM contains these new airworthiness limitations.

EASA, which is the Technical Agent for the Member States of the European Union, issued EASA AD No. 2013-0178, dated August 7, 2013 (EASA AD 2013-0178), to correct an unsafe condition for Eurocopter Deutschland GmbH (ECD) (now Airbus Helicopters) Model EC135P1, EC135P2, EC135P2+, EC135T1, EC135T2, EC135T2+, EC635T1, EC635P2+, and EC635T2+ helicopters. EASA advises that ECD has revised the airworthiness limitations for the EC135 and EC635 type design as published in the MSM. Revision 14 of the MSM contains these new airworthiness limitations. EASA states that failure to comply with these limitations could result in failure of a critical part, which could result in loss of control of the helicopter. Accordingly, EASA AD 2013-0178 requires revising the airworthiness limitations section (ALS) to include the new life limits and replacing each part that has reached its life limit.

Actions Since AD 2016-11-21 Was Issued

Since the FAA issued AD 2016-11-21, EASA issued EASA AD No. 2017-0243, dated December 6, 2017 (EASA AD 2017-0243), which supersedes EASA AD No. 2013-0178 and expands the applicability to include Models EC135P3, EC135T3, EC635P3, and EC635T3 helicopters. New life limits also were added for some parts. Model EC635P3 and EC635T3 helicopters are not included in the applicability of this proposed AD as these model helicopters are not FAA type-certificated.

FAA's Determination

These helicopters have been approved by EASA and are approved for operation in the United States. Pursuant to the FAA's bilateral agreement with the European Union, EASA has notified the FAA of the unsafe condition described in its AD. The FAA is proposing this AD after evaluating all known relevant information and determining that an unsafe condition is likely to exist or develop on other helicopters of the same type design.

Related Service Information Under 1 CFR Part 51

The FAA reviewed Airbus Helicopters Alert Service Bulletin (ASB) EC135-04A-012, Revision 0, dated September 11, 2017, which specifies incorporating life limits for the tail rotor hub body into the tail rotor hub log card and into the list of life-limited parts. Airbus Helicopters reports the addition of the tail rotor hub body into the tail rotor hub log card was prompted by a new, recently manufactured, serial-numbered hub.

This service information is reasonably available because the interested parties have access to it through their normal course of business or by the means identified in the ADDRESSES section.

Proposed AD Requirements

This proposed AD would require, before further flight, establishing a life limit for the tail rotor hub body of 27,400 hours time-in-service (TIS) or using the service information if the history of the tail rotor hub body is not known or cannot be identified. This proposed AD would also require establishing life limits for certain swashplate and mixing lever gear unit parts in the ALS, and recording the revised life limit on the component history card or equivalent record. Additionally, this proposed AD would require continuing to record the life limit of certain parts that have not reached their life limit. This proposed AD would require removing from service any part that reached or exceeded its life limit.

Differences Between This Proposed AD and the EASA AD

The EASA AD applies to Model EC635P2+, EC635P3, EC635T2+, and EC635T3 helicopters, whereas this proposed AD would not because these model helicopters are not FAA type-certificated. The EASA AD would require revising the Aircraft Maintenance Program with new or revised life limitations within 12 months after the EASA AD's effective date. This proposed AD would require revising the life limit for certain parts in the ALS of the existing maintenance manual for your helicopter before further flight.

Costs of Compliance

The FAA estimates that this proposed AD would affect 272 helicopters of U.S. Registry. The FAA estimates that operators may incur the following costs in order to comply with this proposed AD. Labor costs are estimated at $85 per work-hour.

Revising the component history card or equivalent record would take about 2 work-hours, for an estimated cost of $170 per helicopter and $46,240 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2016-11-21, Amendment 39-18548 (81 FR 36137); and

b. Adding the following new AD:

Airbus Helicopters Deutschland GmbH: Docket No. FAA-2019-0113; Product Identifier 2017-SW-140-AD.

(a) Applicability

This airworthiness directive (AD) applies to Airbus Helicopters Deutschland GmbH Model EC135P1, EC135P2, EC135P2+, EC135P3, EC135T1, EC135T2, EC135T2+, and EC135T3 helicopters, certificated in any category.

(b) Unsafe Condition

The FAA is issuing this AD to prevent certain parts from remaining in service beyond their fatigue life, resulting in failure of the part and subsequent loss of control of the helicopter.

(c) Affected ADs

This AD replaces AD 2016-11-21, Amendment 39-18548 (81 FR 36137, June 6, 2016).

(d) Comments Due Date

The FAA must receive comments by April 22, 2021.

(e) Compliance

You are responsible for performing each action required by this AD within the specified compliance time unless it has already been accomplished prior to that time.

(f) Required Actions

(1) Before further flight, establish a life limit for the tail rotor hub body (hub body), part number (P/N) L642A2003102, of 27,400 hours time-in-service (TIS). If you cannot determine the hub body's TIS, follow the instructions in Table 1, Examples and Calculations, Effectivity: The history of the hub body is not known or can't be identified, in Airbus Helicopters Alert Service Bulletin (ASB) EC135-04A-012, Revision 0, dated September 11, 2017, except where the service information specifies that you contact the manufacturer, you are required to remove the part from service instead.

(2) Before further flight, revise the life limit for each part listed in paragraphs (f)(2)(i) and (ii) of this AD in the Airworthiness Limitations Section (ALS) of the existing maintenance manual for your helicopter and record the revised life limit on the component history card or equivalent record as follows:

(i) For swashplate parts:

(A) The life limit for the ring (control ring), P/N L623M2001213, is 10,700 hours TIS.

(B) The life limit for the cardan ring (two-part), P/N L623M2005205, is 14,300 hours TIS.

(C) The life limit for the bolt (control ring), P/N L671M7001215, is 14,300 hours TIS.

(D) The life limit for the bolt (sliding sleeve), P/N L623M2006206 and P/N L623M2006213, is 14,300 hours TIS.

(ii) For mixing lever gear unit parts:

(A) The life limit for the forked lever assembly, P/N L671M3012102, is 10,400 hours TIS.

(B) The life limit for the hinged support, P/N L671M7003210, is 8,400 hours TIS.

(C) The life limit for the bolt, P/N L671M7001220, is 8,400 hours TIS.

(3) Before further flight, remove from service any part listed in paragraphs (f)(1) and (2) of this AD that has reached or exceeded its revised life limit.

(4) Thereafter, for any part listed in paragraphs (f)(1) and (2) of this AD that has not reached or exceeded its life limit, continue to record the life limit of the part on its component history card or equivalent record and remove any part listed in paragraph (f)(1) and (2) of this AD from service before the part has reached or exceeded its revised life limit.

(g) Special Flight Permits

Special flight permits are limited to a onetime flight to a maintenance facility to replace a part that has reached its life limit.

(h) Alternative Methods of Compliance (AMOCs)

(1) The Manager, Strategic Policy Rotorcraft Section, FAA, has the authority to approve AMOCs for this AD, if requested using the procedures found in 14 CFR 39.19. If sending information directly to the manager of the Strategic Policy Rotorcraft Section, send it to: Manager, Strategic Policy Rotorcraft Section, FAA, 10101 Hillwood Pkwy., Fort Worth, TX 76177; telephone 817-222-5110. Information may be emailed to: 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(i) Additional Information

The subject of this AD is addressed in European Aviation Safety Agency (now European Union Aviation Safety Agency) (EASA) AD No. 2017-0243, dated December 6, 2017. You may view the EASA AD on the internet at https://www.regulations.gov in the AD Docket.

(j) Subject

Joint Aircraft Service Component (JASC) Code: 6400, Tail Rotor System.

Issued on February 17, 2021.
Lance T. Gant,
Director, Compliance & Airworthiness Division, Aircraft Certification Service.

[FR Doc. 2021-03991 Filed 3-5-21; 8:45 am]

BILLING CODE 4910-13-P